FEDERAL EMERGENCY MANAGEMENT AGENCY

Agency Information Collection Activities: Proposed Collection; Comment Request

ACTION: Notice and request for comments.

SUMMARY: The Federal Emergency Management Agency (FEMA), as part of its continuing effort to reduce paperwork and respondent burden, invites the general public and other Federal agencies to take this opportunity to comment on proposed revised information collections. In accordance with the Paperwork Reduction Act of 1995 (44 U.S.C. 3506(c)(2)(A)), this notice seeks comments concerning FEMA's use of surveys to collect disaster related information. FEMA will use various modes of data collection including: mailed questionnaires, phone surveys, and computerized surveys. The survey respondents will include individual disaster applicants, state and local government officials, voluntary agency officials, and officials from other Federal agencies involved in delivering disaster assistance.

SUPPLEMENTARY INFORMATION: These surveys are conducted in response to Executive Order 12862 which requires that “all executive departments and agencies that provide significant services directly to the public” meet established customer service standards and to “survey customers to determine the kind and quality of services they want and their level of satisfaction with existing services.”

Collection of Information

Title: FEMA Disaster Assistance and Operations Customer Satisfaction Surveys.

Type of Information Collection: Revision of a currently approved collection.

OMB Number: 3067-0256.

Abstract. The surveys provide FEMA with information about customer satisfaction and program effectiveness. The surveys help interpret the effects of disaster-related policy changes or innovations. The survey is also used to measure trends and patterns in customer satisfaction and program effectiveness over time. FEMA will use various modes of data collection including: mailed questionnaires, phone surveys, and computerized surveys. Phone surveys of individual applicants may be conducted daily and written surveys will be conducted after every presidentially declared disaster for individual assistance (the average number of declared disasters per year is 50). The survey respondents will include individual disaster applicants, state and local government officials, voluntary agency officials, and officials from other Federal agencies involved in delivering disaster assistance. FEMA will randomly sample individual disaster applicants and will survey the entire universe of state and local government officials, voluntary agency officials. Officials from other Federal agencies involved in delivering disaster assistance also will be surveyed.

Affected Public: Individuals or households, business or other for-profit institutions, not-for-profit institutions, Federal Government, state, local, or tribal government. It is important to note that FEMA does not solicit survey responses from businesses or other for-profit institutions, but it is possible that an individual applicant sampled will respond as a business owner.

Estimated Total Annual Burden Hours. 23,480. See calculations in table below.

Respondent group | Survey | Desired respondents per administrations (A) | Number of administration per year (B) | Burden hours per respondent (C) | Total annual burden hours (AXBXC)
Individual assistance applicants | Disaster Assistance Customer Satisfaction Survey | 400 | 50 | .25 | 5,000
| Inspection Services Survey | 400 | 50 | .25 | 5,000
| Teleregistration Survey (Proposed) | 400 | 50 | .25 | 5,000
| Helpline Survey (Proposed) | 400 | 50 | .25 | 5,000
| Preferences & Best Practices in the Delivery of Customer Service/Disaster Recovery Center Survey (Proposed) | 400 | 10 | .25 | 1,000
| Community Relations Survey (Proposed) | 400 | 4 | .25 | 400
Officials | Public Assistance Survey—30 per disaster, 2 responses per year | 60 | 60 | .25 | 900
| Other Federal Agency Officials Survey (Proposed)—15 per disaster, 2 responses per year | 30 | 60 | .25 | 450
| Voluntary Agencies Survey (Proposed)—10 per disaster, 4 responses per year | 40 | 60 | .25 | 600
| Community Relations Survey (Proposed) | 30 | 4 | .25 | 30
Total |  |  |  | 23,380

Estimated Annual Cost To Respondents. We have estimated that it will cost each respondent $4.00 to complete each survey. The estimate is based on the respondent making $16.00 per hour (median household income of $34,076/2,080 hours per year). The estimated total annualized cost is $93,520.00 (23,380 respondents x $16.00 per hour x .25 hour).

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received on or before February 5, 2001.

ADDRESSES: Interested persons should submit written comments to Muriel B. Anderson, Chief, Records Management Branch, Program Services Division, Operations Support Directorate, Federal Emergency Management Agency, 500 C Street, SW., Room 316, Washington, DC 20472. Telephone number (202) 646-2625. FAX number (202) 646-3347. E-mail address: muriel.anderson@fema.gov.

FOR FURTHER INFORMATION CONTACT: Kedra Mitchell, Program Specialist, Federal Emergency Management Agency, Response and Recovery Directorate, Readiness Coordination Division, Strategic Planning & Evaluation Team, (202) 646-3381 for additional information. Contact Ms. Anderson at (202) 646-2625 for copies of the proposed collection of information.

Dated: November 28, 2000.
Reginald Trujillo,
Director, Program Services Division, Operations Support Directorate.

[FR Doc. 00-30867 Filed 12-4-00; 8:45 am]

BILLING CODE 6718-01-P